DEPARTMENT OF DEFENSE

Office of the Secretary

Defense Health Board (DHB) Meeting

AGENCY: Department of Defense.

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the following meeting of the Defense Health Board (DHB) is announced:

DATES:

November 12, 2009

7 a.m.-8:30 a.m. (Administrative Working Meeting)

8:45 a.m.-12 p.m. (Open Session)

12 p.m.-1 p.m. (Administrative Working Meeting)

1:15 p.m.-5 p.m. (Open Session)

November 13, 2009

7 a.m.-11:30 a.m. (Open Session)

11:30 a.m.-12:30 p.m. (Administrative Working Meeting)

12:30 p.m.-1:30 p.m. (Open Session)

ADDRESSES: Hyatt Fair Lakes, Commonwealth Ballroom, 12777 Fair Lakes Circle, Fairfax, VA 22033.

Written statements may be mailed to the above address, e-mailed to dhb@ha.osd.mil or faxed to (703) 681-3317.

FOR FURTHER INFORMATION CONTACT: Commander Edmond F. Feeks, Executive Secretary, Defense Health Board, Five Skyline Place, 5111 Leesburg Pike, Suite 810, Falls Church, Virginia 22041-3206, (703) 681-8448, ext. 1228, Fax: (703) 681-3317, edmond.feeks@tma.osd.mil.

Additional information, agenda updates, and meeting registration are available online at the Defense Health Board Web site, http://www.ha.osd.mil/dhb.

The public is encouraged to register for the meeting. If special accommodations are required to attend (sign language, wheelchair accessibility) please contact Ms. Lisa Jarrett at (703) 681-8448 ext. 1280 by October 29, 2009.

SUPPLEMENTARY INFORMATION: Purpose of the Meeting: The purpose of the meeting is to address and deliberate pending and new Board issues and provide briefings for Board members on topics related to ongoing Board business.

Agenda: On November 12, 2009, the DHB will receive briefings on military health needs and priorities. The following Defense Health Board Subcommittees will present updates to the Board: Panel on the Care of Individuals with Amputation and Functional Limb Loss, Traumatic Brain Injury Family Caregiver Subcommittee, and Psychological Health External Advisory Subcommittee. Additionally, the Board will receive briefings from representatives from the Joint Pathology Center, Walter Reed National Military Medical Center, and the UK Advisory Group on Military Medicine.

On November 13, 2009 the following DHB Subcommittees will present updates: Infectious Disease Control Subcommittee, Vaccine Safety and Effectiveness Workgroup, Medical Ethics Subcommittee, Military Occupational/Environmental Health and Medical Surveillance Subcommittee, DoD Task Force on the Prevention of Suicide by Members of the Armed Forces, Health Care Delivery External Advisory Subcommittee, and the Trauma and Injury Subcommittee. The Board will also receive a briefing regarding influenza, “Mobile Trauma Bay” Concept, and Afghanistan Health Sector.

Pursuant to 5 U.S.C. 552b, as amended, and 41 CFR 102-3.140 through 102-3.165 and subject to availability of space, the Defense Health Board meeting from 8:45 a.m. to 12 p.m. and from 1:15 p.m. to 5 p.m. on November 12, 2009, and 7 a.m. to 11:30 a.m. and from 12:30 p.m. to 1:30 p.m. on November 13, 2009, is open to the public. Any member of the public wishing to provide input to the Defense Health Board should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals desiring to submit a written statement may do so through the Board's Designated Federal Officer at the address detailed above at any point. If the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

Dated: October 19, 2009.
Patricia L. Toppings,
OSD Federal Register Liaison Officer, Department of Defense.

[FR Doc. E9-25699 Filed 10-23-09; 8:45 am]

BILLING CODE 5001-06-P